DEPARTMENT OF ENERGY

Federal Energy Regulatory Commission

[Docket No. CP08-421-000]

Transcontinental Gas Pipe Line Corporation; Notice of Request Under Blanket Authorization

June 19, 2008.

Take notice that on June 13, 2008, Transcontinental Gas Pipe Line Corporation (Transco), Post Office Box 1396, Houston, Texas 77251, filed in Docket No. CP08-421-000, a prior notice request pursuant to sections 157.205, 157.208, and 157.212 of the Federal Energy Regulatory Commission's regulations under the Natural Gas Act for authorization to construct and operate two new receipt points to receive revaporized liquefied natural gas (LNG), located in Calcasieu Parish, Louisiana, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Transco proposes to construct and operate two new receipt points in Calcasieu Parish, Louisiana, one on Transco's main line, the Starks Interconnect, and one on Transco's Southwest Louisiana Lateral, the Southwest Interconnect, to receive revaporized LNG from the Golden Pass LNG terminal in Jefferson County, Texas, by way of the Golden Pass Pipeline LLC (Golden Pass) pipeline. The facilities Transco proposes to construct at the Starks Interconnect will include a meter station, custody transfer electronic flow measurement, control valve facility, 20-inch yard piping, 20-inch overpressure protection valve, and a 20-inch tap on Mainlines A and B, and the Southwest Interconnect will include a meter station, custody transfer electronic flow measurement, control valve facility, 24-inch yard piping, 24-inch overpressure protection valve, and a 24-inch tap on the Southwest Louisiana Lateral. Transco estimates the cost of construction to be approximately $8.8 million. Transco states that Golden Pass will reimburse Transco for all costs associated with such facilities. Transco asserts that the new receipt points will provide Transco with the ability to receive up to 683 MMcf/d of revaporized LNG from Golden Pass into Transco's mainlines A and B and up to 1,000 MMcf/d of revaporized LNG from Golden Pass into Transco's Southwest Louisiana Lateral.

Any questions regarding the application should be directed to Bill Hammons, Transcontinental Gas Pipe Line Corporation, P.O. Box 1396, Houston, Texas 77251, at (713) 215-2130.

Any person may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E8-14455 Filed 6-25-08; 8:45 am]

BILLING CODE 6717-01-P